DEPARTMENT OF THE INTERIOR

Bureau of Land Management

[LLNM922000 L13200000.EL0000; NMNM 126245]

Notice of Invitation To Participate; Coal Exploration License Application NMNM 126245, New Mexico

AGENCY: Bureau of Land Management, Interior.

ACTION: Notice.

SUMMARY: Pursuant to the Mineral Leasing Act of 1920, as amended by the Federal Coal Leasing Amendments Act of 1976, and to Bureau of Land Management (BLM) regulations, all interested parties are hereby invited to participate with the Peabody Natural Resources Company, on a pro rata cost-sharing basis, in a program for the exploration of coal deposits owned by the United States of America in lands located in McKinley County, New Mexico.

DATES: This notice of invitation will be published in the Gallup Independent newspaper once each week for 2 consecutive weeks beginning the week of August 22, 2011, and in the Federal Register. Any party electing to participate in this exploration program must send written notice referencing the Exploration License Application serial number NMNM 126245 to both the BLM and Peabody Natural Resources Company as provided in the ADDRESSES section below no later than 30 days after publication of this notice in the Federal Register or 10 calendar days after the last publication of this notice in the Gallup Independent newspaper, whichever is later.

ADDRESSES: Copies of the proposed exploration plan (case file NMNM 126245) are available for review from 9 a.m. to 4 p.m., Monday through Friday: BLM, New Mexico State Office, 301 Dinosaur Trail, Santa Fe, New Mexico; and BLM, Farmington Field Office, 1235 La Plata Highway, Suite A, Farmington, New Mexico.

The written notice should be sent to the following addresses: State Director, BLM, New Mexico State Office, P.O. Box 27115, Santa Fe, New Mexico 87502-0115 and Peabody Natural Resources Company, 701 Market Street, Suite 832, Saint Louis, Missouri 63101-1830.

FOR FURTHER INFORMATION CONTACT: Roberta D. Sandoval at 505-954-2161, rdsandov@blm.gov or Powell King 505-954-2160, pking@blm.gov. Persons who use a telecommunications device for the deaf (TDD) may call the Federal Information Relay Service (FIRS) at 1-800-877-8339 to contact the above individuals during normal business hours. The FIRS is available 24 hours a day, 7 days a week, to leave a message or question with the above individuals. You will receive a reply during normal business hours.

SUPPLEMENTARY INFORMATION: The purpose of the exploration program is to gain structural and quality information about the coal. The BLM regulations at 43 CFR 3410 require the publication of an invitation to participate in the coal exploration in the Federal Register. The Federal coal resources included in the exploration license application are located in the following described lands in McKinley County, New Mexico, and are described as follows:

NM Principal Meridian

T. 15 N., R. 8 W.,

Sec. 6, E½, and portion of E½W½ (lying east of road);

Sec. 8, All;

Sec. 18, E½NE¼;

Sec. 20, SE¼, NE¼, and N½NW¼;

Sec. 28, NE¼SE¼NW¼, and portion of SW¼NE¼ (lying west of Lee Ranch Coal Company permit boundary).

T. 16 N., R. 8 W.,

Sec. 6, S½NW¼SE¼;

Sec. 8, SE¼NE¼, and portion of E½E½NW¼ (lying south of road);

Sec. 20, SE¼, and SE¼NE¼;

Sec. 30, E½SE¼.

T. 17 N., R. 9 W.,

Sec. 34, All.

Containing 2,678.00 acres, more or less.

The proposed exploration program is fully described in, and will be conducted pursuant to, an exploration plan to be approved by the BLM.

Michael Tupper,
Acting Deputy State Director, Minerals.

Authority: 43 CFR 3410.2-1(c)(1).

[FR Doc. 2011-21899 Filed 8-25-11; 8:45 am]

BILLING CODE 4310-FB-P